SMALL BUSINESS ADMINISTRATION

Availability of SBA Draft Strategic Plan for Fiscal Years 2011-2016 and Request for Public Comment

AGENCY: U.S. Small Business Administration.

ACTION: Notice of availability; request for comment.

SUMMARY: This notice announces the availability of the Small Business Administration's draft Strategic Plan. The Government Performance and Results Act of 1993 requires that Federal agencies update their strategic plans every three years and, in doing so, solicit the views and suggestions of those entities potentially affected by or interested in the plan. Therefore, the Agency is interested in receiving comments on our draft Strategic Plan.

DATES: Comments must be received by August 31, 2010. If comments are received late, we will consider them to the extent practicable.

ADDRESSES: To access the draft strategic plan for the FY 2011 to FY 2016 planning period, go to http://www.sba.gov/aboutsba/budgetsplans/serv_budget_strategicplan.html. You can provide your comments by e-mail to Strategicplan@sba.gov. If you wish to send written comments, request a paper copy or have any questions, please direct them to: U.S. Small Business Administration, Strategic Plan-Office of Performance Management, Office of the Chief Financial Officer, 409 Third Street, SW., Suite 6000, Washington, DC 20416.

SUPPLEMENTARY INFORMATION: The Government Performance and Results Act requires that each Federal agency update their strategic plan every three years, (5 U.S.C. 306), and submit their plan to the Congress. This draft Strategic Plan describes our mission, strategic goals, objectives, and means and strategies to achieve those goals. To access the draft strategic plan, go to http://www.sba.gov/aboutsba/budgetsplans/serv_budget_strategicplan.html.

Public Participation Policy

It is the policy of the Agency to ensure that public participation is an integral and effective part of SBA activities and decisions are made with the benefit of significant public perspectives. The Agency recognizes the many benefits to be derived from public participation for both stakeholders and SBA. Public participation provides a means for SBA to gather a diverse collection of opinions, perspectives, and values from the broadest spectrum possible, enabling the Agency to make more informed decisions. Likewise, public participation benefits stakeholders by creating an opportunity to provide input on decisions that affect their communities and our nation.

We anticipate publishing the final SBA Strategic Plan on September 30, 2010, and making it available on the Internet at that time.

Authority: 5 U.S.C. 306.

John Kushman,
Chief Financial Officer (Acting).

[FR Doc. 2010-19507 Filed 8-6-10; 8:45 am]

BILLING CODE 8025-01-P